DEPARTMENT OF AGRICULTURE

Forest Service

Black Hills National Forest Advisory Board

AGENCY: Forest Service, USDA.

ACTION: Notice of meeting.

SUMMARY: The Black Hills National Forest Advisory Board (Board) will meet in Rapid City, South Dakota. The committee is established consistent with and operates in compliance with the Federal Advisory Committee Act. The purpose of the committee is to improve collaborative relationships and to provide advice and recommendations to the Secretary of Agriculture through the Black Hills National Forest Supervisor on a broad range of forest issues. Board information, including the meeting agenda and the meeting summary/minutes can be found at the following website: https://www.fs.usda.gov/main/blackhills/workingtogether/advisorycommittees.

DATES: The meeting will be held on Wednesday, March 11, 2020, at 1:00 p.m.

All meetings are subject to cancellation. For updated status of meeting prior to attendance, please contact the person listed under For Further Information Contact.

ADDRESSES: The meeting will be held at the Forest Service Center, 8221 Mount Rushmore Road, Rapid City, South Dakota 57702.

Written comments may be submitted as described under Supplementary Information. All comments, including names and addresses, when provided, are placed in the record and available for public inspection and copying. The public may inspect comments received at the Black Hills National Forest Supervisor's Office. Please call ahead at 605-673-9200 to facilitate entry into the building.

FOR FURTHER INFORMATION CONTACT: Scott Jacobson, Committee Coordinator, by phone at 605-440-1409 or by email at sjjacobson@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to provide:

(1) Orientation Topic: FY20 Forest Budget;

(2) Forest Sustainability Discussion;

(3) Timber Sustainability Working Group;

(4) Black Hills Fish Management Plan; and

(5) Trail Rangers and Trail Maintenance Program.

The meeting is open to the public. If time allows, the public may make oral statements of three minutes or less. Individuals wishing to make an oral statement should submit a request in writing by March 2, 2020, to be scheduled on the agenda. Anyone who would like to bring related letters to the attention of the Board may file written statements with the Board's staff before or after the meeting. Written comments and time requests for oral comments must be sent to Scott Jacobson, Black Hills National Forest Supervisor's Office, 1019 North Fifth Street, Custer, South Dakota 57730; by email to sjjacobson@fs.fed.us, or via facsimile to 605-673-9208.

Meeting Accommodations: If you are a person requiring reasonable accommodation, please make requests in advance for sign language interpreting, assistive listening devices, or other reasonable accommodation for access to the facility or proceedings by contacting the person listed in the section titled For Further Information Contact. All reasonable accommodation requests are managed on a case by case basis.

Dated: February 25, 2020.
Cikena Reid,
USDA Committee Management Officer.

[FR Doc. 2020-04160 Filed 2-28-20; 8:45 am]

BILLING CODE 3411-15-P